DEPARTMENT OF STATE

[Public Notice: 9301]

In the Matter of the Amendment of the Designation of Ansar Bayt al-Maqdis, Also Known as Ansar Jerusalem, Also Known as Supporters of Jerusalem, Also Known as Ansar Bayt al-Maqdes, Also Known as Ansar Beit al-Maqdis, Also Known as Jamaat Ansar Beit al-Maqdis, Also Known as Jamaat Ansar Beit al-Maqdis fi Sinaa, Also Known as Supporters of the Holy Place, as a Foreign Terrorist Organization Pursuant to Section 219 of the Immigration and Nationality Act, as Amended

Based upon a review of the administrative record assembled in this matter pursuant to Section 219 of the Immigration and Nationality Act, as amended (8 U.S.C. 1189 (“INA”), and in consultation with the Attorney General and the Secretary of the Treasury, I have concluded that there is a sufficient factual basis to find that Ansar Bayt al-Maqdis, also known under the aliases listed above, uses the alias ISIL Sinai Province, also known as Islamic State-Sinai Province, also known as Wilayat Sinai, also known as Sinai Province, also known as The State of Sinai, also known as the Islamic State in the Sinai, as its primary name.

Therefore, pursuant to Section 219(b) of the INA, as amended (8 U.S.C. 1189(b)), I hereby amend the designation of Ansar Bayt al-Maqdis as a foreign terrorist organization to include the following new aliases: ISIL Sinai Province, also known as Islamic State-Sinai Province, also known as Wilayat Sinai, also known as Sinai Province, also known as The State of Sinai, also known as the Islamic State in the Sinai, as additional aliases.

This determination shall be published in the Federal Register.

Dated: September 22, 2015.
John F. Kerry,
Secretary of State.

[FR Doc. 2015-24866 Filed 9-29-15; 8:45 am]

BILLING CODE 4710-AD-P